SECURITIES AND EXCHANGE COMMISSION

Issuer Delisting; Notice of Application To Withdraw From Listing and Registration on the Pacific Exchange, Inc. (Computer Sciences Corporation, Common Stock, $1.00 Par Value, and Attached Preferred Stock Purchase Rights) File No. 1-4850

June 25, 2002.

Computer Sciences Corporation, a Nevada corporation, (“Issuer”), has filed an application with the Securities and Exchange Commission (“Commission”), pursuant to section 12(d) of the Securities Exchange Act of 1934 (“Act”) ¹ and Rule 12d2-2(d) thereunder,² to withdraw its Common Stock, $1.00 par value, and Attached Preferred Stock Purchase Rights (expiring February 18, 2008) (“Securities”), from listing and registration on the Pacific Exchange, Inc. (“PCX” or “Exchange”).

¹ 15 U.S.C. 78l(d).

² 17 CFR 240.12d2-2(d).

The Board of Directors (“Board”) of the Issuer approved a resolution on April 16, 2002 to withdraw its Securities from listing on the Exchange. In making the decision to withdraw the Security from listing and registration on the PCX, the Issuer states that it does not perceive any benefit of continued listing of the Securities on the PCX and that less than 1% of the Common Stock sold in open market transactions are traded on the PCX. The Issuer will continue to list its Securities on the New York Stock Exchange, Inc. (“NYSE”).

The Issuer's application relates solely to the withdrawal of the Securities from listing on the PCX and shall have no affect upon the Securities' continued listing on the NYSE and registration under section 12(b) of the Act.³

³ 15 U.S.C. 78l(b).

Any interested person may, on or before July 15, 2002, submit by letter to the Secretary of the Securities and Exchange Commission, 450 Fifth Street, NW, Washington, DC 20549-0609, facts bearing upon whether the application has been made in accordance with the rules of the PCX and what terms, if any, should be imposed by the Commission for the protection of investors. The Commission, based on the information submitted to it, will issue an order granting the application after the date mentioned above, unless the Commission determines to order a hearing on the matter.⁴

⁴ 17 CFR 200.30-3(a)(1).

For the Commission, by the Division of Market Regulation, pursuant to delegated authority.
Jonathan G. Katz,
Secretary.

[FR Doc. 02-16454 Filed 6-28-02; 8:45 am]

BILLING CODE 8010-01-P